CONSUMER PRODUCT SAFETY COMMISSION

[Docket No. CPSC-2012-0056]

Agency Information Collection Activities; Extension of Approval of Information Collection; Standard for Omnidirectional CB Base Antennas

AGENCY: Consumer Product Safety Commission.

ACTION: Notice of Information Collection; Request for Comment.

SUMMARY: As required by the Paperwork Reduction Act of 1995, the Consumer Product Safety Commission (CPSC or Commission) announces that the Commission has submitted to the Office of Management and Budget (OMB) a request for extension of approval of information collection requirements associated with the Safety Standard for Omnidirectional Citizens Band Base Station Antennas. OMB previously approved the collection of information under Control Number 3041-0006. OMB's most recent extension of approval will expire on September 30, 2025. On June 13, 2025, CPSC published a notice in the Federal Register to announce the agency's intention to seek extension of approval of the collection of information. The Commission did not receive any public comments. Therefore, by publication of this notice, the Commission announces that CPSC has submitted to the OMB a request for extension of approval of that collection of information.

DATES: Submit comments on the collection of information by October 20, 2025.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. Written comments that are sent to OMB also should be submitted electronically at http://www.regulations.gov, under Docket No. CPSC-2012-0056.

FOR FURTHER INFORMATION CONTACT: Cynthia Gillham, Consumer Product Safety Commission, 4330 East West Highway, Bethesda, MD 20814; (301) 504-7791, or by email to: pra@cpsc.gov.

SUPPLEMENTARY INFORMATION: CPSC seeks to renew the following currently approved collection of information:

Title: Standard for Omnidirectional CB Base Antennas.

OMB Number: 3041-0006.

Type of Review: Renewal of collection.

Frequency of Response: On occasion.

Affected Public: Manufacturers, importers, and private labelers of omnidirectional citizens band base station antennas.

General Description of Collection: The Safety Standard for Omnidirectional Citizens Band Base Station Antennas (16 CFR part 1204, subpart A) establishes performance requirements for omnidirectional citizens band base station antennas to reduce unreasonable risks of death and injury that may result if an antenna contacts overhead power lines while being erected or removed from its site. Section 14 of the Consumer Product Safety Act, 15 U.S.C. 2063, and the regulations implementing the standard (16 CFR part 1204, subpart B) require manufacturers, importers, and private labelers of antennas, subject to the standard, to test the antennas for compliance with the standard, maintain records of that testing, and certify compliance with the standard.¹

¹ Although the Commission is submitting this request as required by the PRA, on August 19, 2025, the Commission voted to direct staff to prepare and submit for Commission consideration a notice of revocation of the Safety Standard for Omnidirectional Citizens Band Base Station Antennas.

Estimated Number of Respondents: Ten suppliers may respond to the collection annually by meeting the testing and certification requirements.

Estimated Time per Response: Staff estimates that the average annual recordkeeping burden imposed is approximately 220 hours.

Total Estimated Annual Burden: Based on ten respondents, at 220 hours per response, the total annual burden imposed by the certification regulations on manufacturers, importers and private labelers of omnidirectional citizens band base station antennas is about 2,200 hours.

The Commission staff estimates that the average hourly cost to reporting firms for the time required to perform the required testing and maintain the required records is about $74.73, based on the reported total compensation for management, professional, and related employees in goods-producing private industries. This may, however, be an overestimate because respondents to this collection may be foreign manufacturers that are compensated at a lower average wage rate. Total annual cost to the industry is approximately $164,406 ($74.73 per hour × 2,200 hours = $164,406).

Alberta E. Mills,
Secretary, Consumer Product Safety Commission.

[FR Doc. 2025-18176 Filed 9-18-25; 8:45 am]

BILLING CODE 6355-01-P